DEPARTMENT OF COMMERCE

International Trade Administration

[A-570-863]

Honey From the People's Republic of China: Preliminary Intent To Rescind New Shipper Review

AGENCY: Enforcement and Compliance, International Trade Administration, Department of Commerce.

SUMMARY: The Department is conducting a new shipper review (“NSR”) covering the period of review (“POR”) of December 1, 2014, through November 30, 2015. Because the sales made by Shanghai Sunbeauty Trading Co., Ltd. (“Sunbeauty”) are not bona fide, we have preliminarily determined to rescind this NSR.

DATES: Effective December 6, 2016.

FOR FURTHER INFORMATION CONTACT: Kabir Archuletta or Carrie Bethea, AD/CVD Operations, Office V, Enforcement and Compliance, International Trade Administration, U.S. Department of Commerce, 1401 Constitution Avenue NW., Washington, DC 20230; telephone: (202) 482-2593 or (202) 482-1491, respectively.

SUPPLEMENTARY INFORMATION:

Background

In response to a December 17, 2015 request from Sunbeauty,¹ on February 3, 2016, the Department published the notice of initiation of a new shipper review of honey for the period December 1, 2014 to November 30, 2015.² On June 14, 2016, the Department extended the deadline for issuing the preliminary results by 120 days to November 30, 2016.³

¹ See Request for NSR.

² See Initiation Notice.

³ See Memorandum to Christian Marsh, Deputy Assistant Secretary for Antidumping and Countervailing Duty Operations, through James C. Doyle, Director, Office V, Antidumping and Countervailing Duty Operations “Honey from the People's Republic of China: Extension of Deadline for Preliminary Results of New Shipper Review” (June 14, 2016).

The Department sent the NSR antidumping duty questionnaire to Sunbeauty on February 3, 2016,⁴ to which it responded in a timely manner.⁵ Between March 2016 and August 2016, the Department issued supplemental questionnaires to Sunbeauty, to which it responded in a timely manner.⁶ Petitioner submitted comments on Sunbeauty's questionnaire response between March and September 2016.⁷ Sunbeauty submitted rebuttal comments to Petitioner's comments between March and September 2016.⁸

⁴ See Letter to Shanghai Sunbeauty Co., Ltd. from Catherine Bertrand, Program Manager, Office V, regarding, “New Shipper Questionnaire,” dated February 3, 2016.

⁵ See Letter to the Secretary from Shanghai Sunbeauty Trading Co., Ltd., regarding, “Honey from the People's Republic of China: Shanghai Sunbeauty Section A Response,” dated March 2, 2016; Letter to the Secretary from Shanghai Sunbeauty Trading Co., Ltd., regarding, “Honey from the People's Republic of China: Response to Importer-Specific Questions,” dated March 2, 2016.

⁶ See, e.g., Letter to Shanghai Sunbeauty Co., Ltd., regarding, “Antidumping Duty New Shipper Review of Honey from the People's Republic of China—Supplemental Section AC Questionnaire,” dated July 7, 2016.

⁷ Petitioner is the American Honey Producers Association and Sioux Honey Association. See, e.g., Letter to the Secretary from Petitioners, regarding, “Honey from the People's Republic of China—Petitioners' Submission of New Factual Information to Rebut, Clarify, or Correct, Information Contained in Sunbeauty's Importer-Specific Questionnaire,” dated August 8, 2016.

⁸ See, e.g., Letter to the Secretary from Shanghai Sunbeauty Trading Co., Ltd., regarding, “Honey from the People's Republic of China: Rebuttal Comments on CBP Entry Documentation,” dated March 28, 2016.

Scope of the Order

The products covered by this order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to this order is currently classifiable under subheadings 0409.00.00, 1702.90.90 and 2106.90.99 of the Harmonized Tariff Schedule of the United States (“HTSUS”). Although the HTSUS subheadings are provided for convenience and customs purposes, the Department's written description of the merchandise under order is dispositive.

Methodology

The Department is conducting this review in accordance with section 751(a)(2)(B) of the Tariff Act of 1930, as amended (“the Act”), and 19 CFR 351.214. For a full description of the methodology underlying our conclusions, see the Preliminary Decision Memorandum.

The Preliminary Decision Memorandum is a public document and is on file electronically via Enforcement and Compliance's Antidumping and Countervailing Duty Centralized Electronic Service System (“ACCESS”). ACCESS is available to registered users at http://access.trade.gov and in the Department's Central Records Unit, room B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Rescission of Sunbeauty New Shipper Review

For the reasons detailed in the Preliminary Decision Memorandum, the Department preliminarily finds that, Sunbeauty's sales under review are not bona fide transactions. As such, the Department preliminarily finds that we cannot rely on these sales to calculate a dumping margin and there are no sales on which we can base this review. Consequently, the Department is preliminarily rescinding the new shipper review of Sunbeauty.

Disclosure and Public Comment

The Department will disclose the analysis performed for these preliminary results to the parties within five days of the date of publication of this notice in accordance with 19 CFR 351.224(b). Interested parties may submit written comments by no later than 30 days after the date of publication of these preliminary results of review.⁹ Rebuttals, limited to issues raised in the written comments, may be filed by no later than five days after the written comments are filed.¹⁰

⁹ See 19 CFR 351.309(c).

¹⁰ See 19 CFR 351.309(d).

Any interested party may request a hearing within 30 days of publication of this notice.¹¹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹²

¹¹ See 19 CFR 351.310(c).

¹² See 19 CFR 351.310(d).

The Department intends to issue the final results of this new shipper review, which will include the results of its analysis of issues raised in any such comments, within 90 days of publication of these preliminary results, pursuant to section 751(a)(2)(B)(iv) of the Act.

Assessment Rates

Upon completion of the final results, pursuant to 19 CFR 351.212(b), the Department will determine, and the U.S. Customs and Border Protection (“CBP”) shall assess, antidumping duties on all appropriate entries. If we proceed to a final rescission of the new shipper review, Sunbeauty's entries will be assessed at the rate entered.¹³ If we do not proceed to a final rescission of the new shipper review, pursuant to 19 CFR 351.212(b)(1), we will calculate importer-specific assessment rates. We will instruct CBP to assess antidumping duties on all appropriate entries covered by this review if any importer-specific assessment rate calculated in the final results of this review is above de minimis.¹⁴

¹³ See 19 CFR 351.212(c).

¹⁴ See 19 CFR 351.106(c)(2).

Cash Deposit Requirements

Effective upon publication of the final rescission or the final results of this new shipper review, we will instruct CBP to discontinue the option of posting a bond or security in lieu of a cash deposit for entries of subject merchandise by Sunbeauty. If the Department proceeds to a final rescission of the new shipper review, the cash deposit rate will continue to be the PRC-wide rate. If we issue final results of the new shipper review for Sunbeauty, we will instruct CBP to collect cash deposits, effective upon the publication of the final results, at the rates established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties,

The Department is issuing and publishing these results in accordance with sections 751(a)(2)(B) and 777(i)(l) of the Act, and 19 CFR 351.214 and 19 CFR 351.221(b)(4).

Dated: November 29, 2016.
Paul Piquado,
Assistant Secretary for Enforcement and Compliance.

[FR Doc. 2016-29230 Filed 12-5-16; 8:45 a.m.]

BILLING CODE 3510-DS-P